FEDERAL COMMUNICATIONS COMMISSION

47 CFR Part 64

[CC Docket No. 98-67 and CG Docket No. 03-123; FCC 04-137; DA 05-728]

Telecommunications Relay Services and Speech-to-Speech Services for Individuals With Hearing and Speech Disabilities

AGENCY: Federal Communications Commission.

ACTION: Final rule; announcement of effective date.

SUMMARY: In this document, the Federal Communications Commission (Commission) announces that the Office of Management and Budget (OMB) approved for three years the information collection requirements contained in the Telecommunications Relay Services and Speech-to-Speech Services for Individuals with Hearing and Speech Disabilities, Report and Order and Order on Reconsideration, (Order).

DATES: 47 CFR 64.604(a)(4) published at 69 FR 53346, September 1, 2004 is effective April 6, 2005.

FOR FURTHER INFORMATION CONTACT: Dana Jackson, Consumer & Governmental Affairs Bureau, Disability Rights Office at (202) 418-2247 (voice), (202) 418-7898 (TTY); e-mail: Dana.Jackson@fcc.gov.

SUPPLEMENTARY INFORMATION: This is a summary of the Commission's document DA 05-728, released March 29, 2005, announcing OMB approval for three years the information collection requirements contained in the Order; published at 69 FR 53346, September 1, 2004. The information collections were approved by OMB on March 11, 2005. OMB Control Number 3060-1043. The Commission publishes this notice of the effective date of the rules. If you have any comments on these burden estimates, or how we can improve the collection(s) and reduce the burden(s) they cause you, please write to Les Smith, Federal Communications Commission, Room 1-A804, 445 12th Street, SW., Washington, DC 20554. Please include the OMB Control Number 3060-1043, in your correspondence. We will also accept your comments regarding the Paperwork Reduction Act aspects of the collection via the Internet, if you send them to Leslie.Smith@fcc.gov or call (202) 418-0217.

To request materials in accessible formats for people with disabilities (Braille, large print, electronic files, audio format), send an e-mail to fcc504@fcc.gov or call the Consumer & Governmental Affairs Bureau at (202) 418-0530 (voice), (202) 418-0432 (TTY). The notice can also be downloaded in Word and Portable Document Format (PDF) at: http://www.fcc.gov/cgb/dro.

Synopsis

As required by the Paperwork Reduction Act of 1995 (PRA) (44 U.S.C. 3507), the FCC is notifying the public that it received approval from OMB on March 11, 2005, for the collection(s) of information contained in the Commission's annual reporting requirements in 47 CFR 64.604(a)(4). The OMB Control Number is 3060-1043. The annual reporting burden for the collection(s) of information, including the time for gathering and maintaining the collection of information, is estimated to be: 7 respondents, and average of 10 hours per response per annum, for a total hour burden of 70 hours, and no annual cost. Under 5 CFR part 1320, an agency may not conduct or sponsor a collection of information unless it displays a current valid OMB Control Number. No person shall be subject to any penalty for failing to comply with a collection of information subject to the PRA that does not display a valid OMB Control Number. The OMB Control Number is 3060-1043.

The foregoing notice is required by the Paperwork Reduction Act of 1995, Public Law 104-13, October 1, 1995, 44 U.S.C. 3507.

List of Subjects in 47 CFR Part 64

Telecommunications, Individuals with disabilities, Reporting and recordkeeping requirements.

Federal Communications Commission.
Marlene H. Dortch,
Secretary.

[FR Doc. 05-6811 Filed 4-5-05; 8:45 am]

BILLING CODE 6712-01-P